DEPARTMENT OF THE INTERIOR

Bureau of Land Management

[LLORP00000. L10200000.DF0000. LXSSH1040000.222.HAG 23-0003]

Public Meeting for the John Day-Snake Resource Advisory Council, Oregon

AGENCY: Bureau of Land Management, Interior.

ACTION: Notice of public meeting.

SUMMARY: In accordance with the Federal Land Policy and Management Act of 1976 and the Federal Advisory Committee Act of 1972, the U.S. Department of the Interior, Bureau of Land Management's (BLM) John Day-Snake Resource Advisory Council (RAC) will meet as indicated below.

DATES: The RAC will meet Wednesday, February 22, 2023, from 8 a.m. to 4:30 p.m. Pacific Time and Thursday, February 23, 2023, from 8 a.m. to 12 p.m. Pacific Time. The meeting will be held in person in Prineville, Oregon, with a virtual participation option being offered to join via the Zoom for Government platform.

Thirty-minute public comment periods will be offered on February 22 at 4 p.m. and on February 23 at 11:30 a.m. Pacific Time.

ADDRESSES: The in-person meeting will take place at the BLM Prineville District Office, 3050 NE 3rd St, Prineville, OR 97754.

Final agendas for each meeting and contact information regarding Zoom meeting details will be published on the RAC web page at least 10 days in advance at https://www.blm.gov/get-involved/resource-advisory-council/near-you/oregon-washington/john-day-rac.

Comments to the RAC can be mailed to: BLM Prineville District; Attn. Amanda Roberts; 3050 NE 3rd St, Prineville, OR 97754.

FOR FURTHER INFORMATION CONTACT: Kaitlyn Webb, Public Affairs Officer, telephone: (541) 460-8781; email: kwebb@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The 15-member RAC was chartered and appointed by the Secretary of the Interior. Its diverse perspectives are represented in commodity, conservation, and general interests. The RAC provides advice to the BLM and, as needed, to U.S. Forest Service resource managers regarding management plans and proposed resource actions on public land in the John Day-Snake area. All meetings are open to the public in their entirety. Information to be distributed to the RAC must be provided to its members prior to the start of each meeting.

Agenda items for February 22 include agency updates, presentations on the John Day River permit system and new John Day River guidebook, and an update on the Thirtymile Recreation and Travel Management Plan.

Agenda items for February 23 include management of energy and minerals, timber, rangeland and grazing, commercial and dispersed recreation, wildland fire and fuels, and wild horses and burros; review of recommendations regarding proposed actions by the Vale or Prineville BLM Districts and the Wallowa-Whitman, Umatilla, Malheur, Ochoco, and Deschutes National Forests; and any other business that may reasonably come before the RAC.

Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

All calls/meetings are open to the public in their entirety. The public may send written comments to the subcommittee and RAC in response to material presented (see ADDRESSES section). Before including your address, phone number, email address, or other personal identifying information in your comments, please be aware that your entire comment—including your personal identifying information—may be made publicly available at any time. While you can ask us in your comment to withhold your personal identifying information from public review, we cannot guarantee we will be able to do so.

(Authority: 43 CFR 1784.4-2)

Amanda S. Roberts,
Acting District Manager, Prineville District.

[FR Doc. 2023-02538 Filed 2-6-23; 8:45 am]

BILLING CODE 4310-33-P